OCCUPATIONAL SAFETY AND HEALTH REVIEW COMMISSION

29 CFR Part 2200

Rules of Procedure; Corrections

AGENCY: Occupational Safety and Health Review Commission.

ACTION: Correcting amendments.

SUMMARY: This document makes technical amendments to and corrects typographical errors in the final rule published by the Occupational Safety and Health Review Commission in the Federal Register on April 10, 2019. That rule revised the procedural rules governing practice before the Occupational Safety and Health Review Commission.

DATES: Effective on August 30, 2019.

FOR FURTHER INFORMATION CONTACT: Ron Bailey, Attorney-Advisor, Office of the General Counsel, by telephone at (202) 606-5410, by email at rbailey@oshrc.gov, or by mail at: 1120 20th Street NW, Ninth Floor, Washington, DC 20036-3457.

SUPPLEMENTARY INFORMATION: OSHRC published revisions to its rules of procedure in the Federal Register on April 10, 2019 (84 FR 14554). This document makes technical amendments to the final rule and corrects typographical errors found after publication of the final rule.

List of Subjects in 29 CFR Part 2200

Administrative practice and procedure, Hearing and appeal procedures.

Accordingly, 29 CFR part 2200 is amended by making the following correcting amendments:

PART 2200—RULES OF PROCEDURE

1. The authority citation for part 2200 continues to read as follows:

Authority: 29 U.S.C. 661(g), unless otherwise noted.

Section 2200.96 is also issued under 28 U.S.C. 2112(a).

2. Amend § 2200.1 by revising paragraph (f) to read as follows:

§ 2200.1 Definitions.

* * * * *

(f) Judge means an Administrative Law Judge appointed pursuant to section 12(e) of the Act, 29 U.S.C. 661(e), as amended by Public Law 95-251, 92 Stat. 183, 184 (1978).

* * * * *

3. Amend § 2200.8 by revising paragraph (c)(2)(ii) and paragraph (c)(7) as follows:

§ 2200.8 Filing.

* * * * *

(c) * * *

(2) * * *

(ii) Self-represented parties or intervenors who do not elect e-filing must file documents by postage-prepaid first class or higher class U.S. Mail, commercial delivery service, personal delivery, or facsimile transmission as described in paragraph (d) of this section.

* * * * *

(7) Date of filing. The date of filing for documents filed electronically is the day that the complete document is successfully submitted in the Commission's E-File System pursuant to § 2200.4(a)(4)(i). Electronic filing shall be completed by following the instructions on the Commission's website (www.oshrc.gov).

* * * * *

4. Amend § 2200.30 by revising paragraph (c) as follows:

§ 2200.30 General rules.

* * * * *

(c) Separation of claims. Each allegation or response shall be made in separate numbered paragraphs. Each paragraph shall be limited as far as practicable to a statement of a single set of circumstances.

* * * * *

5. Amend § 2200.67 by revising paragraph (b) as follows:

§ 2200.67 Duties and powers of Judges.

* * * * *

(b) Issue authorized subpoenas and rule on petitions to modify, revoke, or affirm, in accordance with § 2200.65;

* * * * *

6. Amend § 2200.202 by revising paragraph (a)(6) as follows:

§ 2200.202 Eligibility for Simplified Proceedings.

* * * * *

(a) * * *

(6) A small employer whether self-represented or represented by counsel.

* * * * *

Dated: August 21, 2019.
James J. Sullivan, Jr.,
Chairman.

[FR Doc. 2019-18736 Filed 8-29-19; 8:45 am]

BILLING CODE 7600-01-P